DEPARTMENT OF STATE

[Public Notice: 7345]

60-Day Notice of Proposed Information Collection: DS-5513, Biographical Questionnaire for U.S. Passport, 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Biographical Questionnaire for U.S. Passport.

• OMB Control Number: None.

• Type of Request: New Collection.

• Originating Office: Bureau of Consular Affairs, Passport Services, Office of Project Management and Operational Support, Workforce Management (CA/PPT/PMO/WM)

• Form Number: DS-5513.

• Respondents: Individuals applying for a U.S. passport.

• Estimated Number of Respondents: 74,021.

• Estimated Number of Responses: 74,021.

• Average Hours Per Response: 45 Minutes.

• Total Estimated Burden: 55,516.

• Frequency: On occasion.

• Obligation to Respond: Required to Obtain a Benefit.

DATES: The Department will accept comments from the public up to 60 days from February 24, 2011.

ADDRESSES: You may submit comments by any of the following methods:

• E-mail: GarciaAA@state.gov.

• Mail (paper, disk, or CD-ROM submissions): Alexys Garcia, U.S. Department of State, 2100 Pennsylvania Ave., NW., Room 3031, Washington, DC 20037.

• Fax: 202-736-9202.

• Hand Delivery or Courier: Alexys Garcia, U.S. Department of State, 2100 Pennsylvania Ave., NW., Room 3031, Washington, DC 20037.

You must include the DS form number (if applicable), information collection title, and OMB control number in any correspondence.

FOR FURTHER INFORMATION CONTACT: Direct requests for additional information regarding the collection listed in this notice, including requests for copies of the proposed information collection and supporting documents, Alexys Garcia, U.S. Department of State, 2100 Pennsylvania Ave., NW., Room 3031, Washington, DC 20037, who may be reached on 202-736-9216 or at GarciaAA@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The primary purpose for soliciting this information is to establish citizenship, identity, and eligibility for a U.S. Passport Book or Passport Card. The information may also be used in connection with issuing other travel documents or evidence of citizenship, and in furtherance of the Secretary's responsibility for the protection of U.S. nationals abroad.

Methodology: The Biographical Questionnaire for a U.S. Passport is submitted in conjunction with an application for a U.S. passport.

Dated: February 10, 2011.
Brenda Sprague,
Deputy Assistant Secretary for Passport Services, Bureau of Consular Affairs, Department of State.

[FR Doc. 2011-4154 Filed 2-23-11; 8:45 am]

BILLING CODE 4710-06-P